DEPARTMENT OF THE INTERIOR

Fish and Wildlife Service

Wind Turbine Guidelines Advisory Committee; Announcement of Public Workshop on Wind Turbine-Wildlife Interactions and Public Meeting

AGENCY: Fish and Wildlife Service, Interior.

ACTION: Notice of public workshop and meeting.

SUMMARY: We, the U.S. Fish and Wildlife Service (Service), will conduct a workshop on February 26-27, 2008, to provide background information on issues related to land-based wind energy facilities and their potential impact to wildlife and wildlife habitat. We will also host the first meeting of the Wind Turbine Guidelines Advisory Committee (Committee), on February 28, 2008. Both the workshop and the meeting are open to the public.

DATES: The workshop will take place February 26-27, 2008. The meeting will take place on February 28, 2008.

ADDRESSES: South Interior Auditorium, South Interior Building, 1951 Constitution Avenue, NW., Washington, DC, 20240. For more information, see “Public Workshop and Meeting Location Information” under SUPPLEMENTARY INFORMATION.

FOR FURTHER INFORMATION CONTACT: Rachel London, Division of Habitat and Resource Conservation, U.S. Fish and Wildlife Service, Department of the Interior, (703) 358-2161.

SUPPLEMENTARY INFORMATION:

Background

On March 13, 2007, the Department of the Interior (Interior) published a notice of establishment of the Committee and call for nominations in the Federal Register (72 FR 11373). The Committee's purpose is to provide advice and recommendations to the Secretary of the Interior (Secretary) on developing effective measures to avoid or minimize impacts to wildlife and their habitats related to land-based wind energy facilities. The Committee is expected to exist for 2 years. Its continuation is subject to biennial renewal. The Committee will meet approximately four times per year. All Committee members serve without compensation. In accordance with the Federal Advisory Committee Act (5 U.S.C. App.), a copy of the Committee's charter has been filed with the Committee Management Secretariat, General Services Administration; Committee on Environment and Public Works, U.S. Senate; Committee on Natural Resources, U.S. House of Representatives; and the Library of Congress.

The Secretary appointed 22 individuals to the Committee on October 24, 2007, representing the varied interests associated with wind energy development and its potential impacts to wildlife species and their habitats.

Public Workshop and Meeting Location Information

We will hold an open technical workshop preceding the Committee meeting. We intend the workshop to provide background information related to land-based wind energy development and its potential impacts to wildlife species and their habitat. The Committee will convene its first meeting following the workshop. The public will have an opportunity to comment at the technical workshop and all Committee meetings.

Please note that the South Main Interior auditorium is accessible to wheelchair users. If you require additional accommodations, please notify us by February 12, 2008.

All persons planning to attend the meeting will be required to present photo identification when entering the building. Because of building security in the Department of the Interior, we recommend that persons planning to attend the workshop and/or meeting register at http://www.fws.gov/habitatconservation/windpower/wind_turbine_advisory_committee.html by February 12, 2008, to allow us sufficient time to provide the building security staff with a list of persons planning to attend. You may still attend if you register after February 12, 2008; however, you will need to allow extra time to undergo security clearance before you can enter the auditorium. While this workshop is open to the public, seating is limited due to room capacity. We will give preference to registrants based on date and time of registration. There will be standing room available if seats are filled.

David J. Stout,
Wind Turbine Guidelines Advisory Committee Designated Federal Officer.

[FR Doc. E8-1407 Filed 1-25-08; 8:45 am]

BILLING CODE 4310-55-P